DEPARTMENT OF COMMERCE

Submission for OMB Review; Comment Request—Special Notice

DOC has submitted to the Office of Management and Budget (OMB) for clearance the following proposal for collection of information under the provisions of the Paperwork Reduction Act (44 U.S.C. chapter 35).

Agency: U.S. Census Bureau, Commerce.

Title: American Community Survey.

Information: On May 1, 2002, the Census Bureau published a notice in the Federal Register notifying the public of its plans to conduct the American Community Survey starting in November 2002. In that notice, written comments and recommendations for the proposed information collection were to be sent within 30 days of publication to the desk officer's regular mail address at OMB. Because OMB is still experiencing delays in receiving regular mail (including first class and express mail) due to the events of last fall, comments on this proposed information collection request should be faxed to Susan Schechter, OMB desk officer, at (202) 395-7245. The due date for these comments to be faxed to OMB has been extended to June 7, 2002.

OMB Desk Officer: Susan Schechter, (202) 395-5103.

Copies of the above information collection proposal can be obtained by calling or writing Madeleine Clayton, Departmental Paperwork Clearance Officer, (202)482-3129, Department of Commerce, room 6608, 14th and Constitution Avenue, NW, Washington, DC 20230 (or via the Internet at mclayton@doc.gov).

Written comments and recommendations for the proposed information collection should be sent via fax by June 7, 2002 to Susan Schechter, OMB Desk Officer, (202) 395-7245.

Dated: May 20, 2002.
Madeleine Clayton,
Departmental Paperwork Clearance Officer, Office of the Chief Information Officer.

[FR Doc. 02-13083 Filed 5-23-02; 8:45 am]

BILLING CODE 3510-07-P